DEPARTMENT OF TRANSPORTATION

Federal Aviation Administration

Notice of Availability of a Final Environmental Assessment (Final EA) and a Finding of No Significant Impact (FONSI)/Record of Decision (ROD) for the Proposed ORD Airport Surveillance Radar, Model 9, West Chicago, IL

AGENCY: Federal Aviation Administration (FAA), DOT.

ACTION: Notice of Availability of a Final Environmental Assessment (Final EA) and Finding of No Significant Impact (FONSI)/Record of Decision (ROD) for the Proposed ORD Airport Surveillance Radar, Model 9, West Chicago, Illinois.

SUMMARY: The Federal Aviation Administration (FAA) is issuing this notice to advise the public that the FAA has prepared, and approved on May 4, 2010, a Finding of No Significant Impact (FONSI)/Record of Decision (ROD) based on the Final Environmental Assessment (Final EA) for the Proposed ORD Airport Surveillance Radar, Model 9 (ASR-9), in West Chicago, Illinois. The FAA prepared the Final EA in accordance with the National Environmental Policy Act and the FAA's regulations and guidelines for environmental documents and was signed on April 16, 2010. Copies of the FONSI/ROD and/or Final EA are available by contacting Ms. Virginia Marcks through the contact information provided below.

FOR FURTHER INFORMATION CONTACT: Ms. Virginia Marcks, Manager, Infrastructure Engineering Center, AJW-C14D, Federal Aviation Administration, 2300 East Devon Avenue, Des Plaines, Illinois 60018. Telephone number: (847) 294-7494.

SUPPLEMENTARY INFORMATION: The Final EA evaluated the construction and operation of the new ORD ASR-9 at DuPage Airport (DPA) in West Chicago, Illinois. The purpose and need of the ORD West ASR-9 is to enhance air traffic management for ORD to achieve the benefits of providing expanded radar coverage that would allow terminal air traffic control for additional new approach routes (West High and Wide approaches), as evaluated and approved in the O'Hare Modernization Environmental Impact Statement (EIS) and ROD.

The proposed ASR-9 would be constructed at a 200 foot (ft) × 200 ft area located west of the intersection of Kress Road and Western Drive on land leased from DPA. The total height of the ASR-9 tower structure would be 116 ft above ground level. The ASR-9 system consists of a tower, a rotating radar sail that transmits and receives the radio signals, an equipment building housing radar equipment, and an emergency generator with an aboveground storage tank for diesel fuel. One moving target indicator reflector and two Calibration and Performance Monitoring Equipment modules would be located at least 1 nautical mile from the preferred ASR-9 site. The FAA would construct a 24 ft wide × 400 ft long access road to the ASR-9 site from Kress Road. The access road would be within a 30 ft wide access easement that would also contain underground utility lines. The access road and radar site together comprise 1.2 acres total land needed to construct the ASR-9 facility.

The Final EA has been prepared in accordance with the National Environmental Policy Act (NEPA) of 1969, as amended, and FAA Order 1050.1E, “Environmental Impacts: Policies and Procedures.” In addition, FAA Order 5050.4B, “National Environmental Policy Act (NEPA) Implementing Instructions for Airport Actions” has been used as guidance in the preparation of the environmental analysis.

Issued in Des Plaines, Illinois, on July 13, 2010.
Virginia Marcks,
Manager, Infrastructure Engineering Center, Chicago, AJW-C14D, Federal Aviation Administration.

[FR Doc. 2010-17939 Filed 7-21-10; 8:45 am]

BILLING CODE 4910-13-P